DEPARTMENT OF AGRICULTURE

Agricultural Marketing Service

[Doc. No AMS-FGIS-22-0082]

Notice of Intent To Certify Delegated Agencies: Alabama Department of Agriculture and Industries and the Washington State Department of Agriculture; Request for Comments

AGENCY: Agricultural Marketing Service (AMS), USDA.

ACTION: Notice; request for comments.

SUMMARY: AMS is asking for comments on the quality of official services at export port locations provided by the following delegated states: Alabama Department of Agriculture and Industries (Alabama) and the Washington State Department of Agriculture (Washington). We consider comments and other available information when determining certification.

DATES: Comments must be received by April 10, 2023.

ADDRESSES: Interested persons are invited to submit written comments concerning this notice. All comments must be submitted through the Federal e-rulemaking portal at https://www.regulations.gov and should reference the document number, the date, and page number of this issue of the Federal Register. Instructions for submitting and reading comments are detailed on the site. All comments submitted in response to this notice will be included in the record and will be made available to the public. Please be advised that the identity of the individuals or entities submitting comments will be made public on the internet at the address provided above.

Read Comments: All comments will be available for public inspection online at http://www.regulations.gov.

FOR FURTHER INFORMATION CONTACT: Jacob Thein, Compliance Officer; Telephone 816-308-1351; Email: Jacob.D.Thein@usda.gov or FGISQACD@usda.gov.

SUPPLEMENTARY INFORMATION: The United States Grain Standards Act (USGSA) sec. 7(e) (7 U.S.C. 79(e)), requires the Secretary of Agriculture (Secretary) to certify, every five years, that each State agency with a delegation of authority is meeting the criteria described for carrying out inspections on behalf of the Secretary. This certification process includes: (1) Publishing, in the Federal Register, a notice of intent to certify a State agency and providing a 30-day period for public comment; (2) evaluating the public comments received; and (3) conducting an investigation to determine whether the State agency is qualified. Findings must be based on public comments received and investigation conducted. Once concluded, USDA will publish a Federal Register notice announcing whether the certification has been granted, describing the basis upon which the Secretary made the decision.

Areas of Delegation

Alabama

Pursuant to section 7(e)(2) of the USGSA, the following export port locations in the State of Alabama are assigned to this State agency.

In Alabama: All export port locations in the State of Alabama.

Washington

Pursuant to section 7(e)(2) of the USGSA, the following export port locations in the State of Washington are assigned to this State agency.

In Washington: All export port locations in the State of Washington.

Request for Comments

We are publishing this notice to provide interested persons the opportunity to comment on the quality of services provided by Alabama and Washington. We are particularly interested in receiving comments citing reasons and pertinent data supporting or objecting to the delegation of the applicant. Such comments should be submitted through the Federal e-rulemaking portal at https://www.regulations.gov.

Authority: 7 U.S.C. 71-87k.

Melissa Bailey,
Associate Administrator, Agricultural Marketing Service.

[FR Doc. 2023-04811 Filed 3-8-23; 8:45 am]

BILLING CODE 3410-02-P